DEPARTMENT OF STATE

Bureau of Consular Affairs

[Public Notice 3378]

Designation of Certain Posts for Advance Payment of Immigrant Visa Application Processing Fee

This public notice identifies the initial ten posts designated by the Deputy Assistant Secretary for Visa Services for the revised procedure for payment of the fee for the processing of an application for an immigrant visa. This notice is issued pursuant to 22 CFR 42.71, which is being amended concurrently with this Notice.

The Deputy Assistant Secretary for Visa Services hereby designates for participation in the initial stage of the new immigrant visa application processing fee payment system the Foreign Service posts in the following cities: Bogota, Colombia, Ciudad Juarez, Mexico, Freetown, Sierra Leone, Georgetown, Guyana, Guangzhou, China, Manila, Philippines, Montreal, Canada, Port au Prince, Haiti, Santo Domingo, Dominican Republic, and Tirana, Albania.

Dated: July 26, 2000.
Nancy H. Sambaiew,
Deputy Assistant Secretary for Visa Services, Department of State.

[FR Doc. 00-23116 Filed 9-7-00; 8:45 am]

BILLING CODE 4710-06-P